INTERNATIONAL TRADE COMMISSION

[Investigation No. 337-TA-1285]

Certain Bar Code Scanners, Mobile Computers With Bar Code Scanning Capabilities, Scan Engines, and Components Thereof; Notice of Commission Decision Not to Review an Initial Determination Terminating the Investigation on the Basis of Settlement; Termination of Investigation

AGENCY: U.S. International Trade Commission.

ACTION: Notice.

SUMMARY: Notice is hereby given that the U.S. International Trade Commission has determined not to review an initial determination (“ID”) (Order No. 23) of the presiding administrative law judge (“ALJ”), granting a joint motion to terminate the investigation in its entirety based on settlement. The investigation is terminated.

FOR FURTHER INFORMATION CONTACT: Megan M. Valentine, Office of the General Counsel, U.S. International Trade Commission, 500 E Street SW, Washington, DC 20436, telephone (202) 708-2301. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On November 4, 2021, the Commission instituted this investigation based on a complaint filed on behalf of Honeywell International Inc., Hand Held Products, Inc., and Metrologic Instruments, Inc. (collectively, “Complainants”), all of Charlotte, North Carolina. 86 FR 60915 (Nov. 4, 2021). The complaint alleges violations of section 337 of the Tariff Act of 1930, as amended, 19 U.S.C. 1337, based upon the importation into the United States, the sale for importation, and the sale within the United States after importation of certain bar code scanners, mobile computers with bar code scanning capabilities, scan engines, and components thereof that infringe one of more claims of U.S. Patent Nos. 8,794,520 (“the '520 patent”); 7,568,628 (“the '628 patent”); 7,770,799 (“the '799 patent”); 9,576,169 (“the '169 patent”); and 10,721,429 (“the '429 patent”). Id. The complaint also alleges that a domestic industry exists or is in the process of being established. Id. The Commission's notice of investigation named Zebra Technologies Corporation of Lincolnshire, Illinois and Symbol Technologies, Inc. of Holtsville, New York (collectively, “Respondents”) as respondents. Id. The Office of Unfair Import Investigations is participating in this investigation. Id.

The Commission previously terminated the investigation as to the '520 patent and certain claims of the '628, '799, '169, and '429 patents. Order No. 13 (Apr. 7, 2022), unreviewed by Notice (Apr. 25, 2022); Order No. 19 (May 27, 2022), unreviewed by Notice (June 13, 2022).

On July 11, 2022, Complainants and Respondents filed a joint motion to terminate the investigation based on a license and settlement agreement between the parties. No opposition to the motion was filed.

On July 12, 2022, the ALJ issued the subject ID (Order No. 23), granting the joint motion to terminate the investigation based on settlement. The ID finds that the motion for termination satisfies Commission Rule 210.21(b) (19 CFR 210.21(b), and that no extraordinary circumstances exist that would prevent the requested termination. No petitions for review were filed.

The Commission has determined not to review the subject ID. The investigation is terminated in its entirety.

The Commission vote for this determination took place on August 4, 2022.

The authority for the Commission's determination is contained in section 337 of the Tariff Act of 1930, as amended (19 U.S.C. 1337), and in part 210 of the Commission's Rules of Practice and Procedure (19 CFR part 210).

By order of the Commission.
Issued: August 4, 2022.
Katherine Hiner,
Acting Secretary to the Commission.

[FR Doc. 2022-17110 Filed 8-9-22; 8:45 am]

BILLING CODE 7020-02-P